DEPARTMENT OF AGRICULTURE

Commodity Credit Corporation

7 CFR Part 1485

RIN Number: 0051-AA69

Market Access Program

AGENCY: Commodity Credit Corporation, USDA.

ACTION: Advance notice of proposed rulemaking and public hearing.

SUMMARY: The Commodity Credit Corporation (CCC) is soliciting comments on whether to amend and revise the regulation at 7 CFR part 1485 for the purpose of improving the effectiveness of the program. This action announces the comment period and the date, time, and location for a public hearing on the proposed rulemaking. The Market Access Program (MAP) is administered by personnel of the Foreign Agricultural Service (FAS).

DATES: Written comments on the proposed rulemaking must be received on or before Monday, August 13, 2007, to be assured of consideration. FAS will conduct a public hearing in order to receive oral and written comments. The hearing is scheduled for Wednesday, July 25, 2007, from 9 a.m. to 2:30 p.m.

ADDRESSES: The hearing scheduled for July 25, 2007, will be held in the Jefferson Auditorium at the U.S. Department of Agriculture, 1400 Independence Avenue, SW., Washington, DC 20250.

Comments may be hand delivered (including FedEx, DHL, UPS, etc.) to: Program Policy Staff, Office of Trade Programs, Foreign Agricultural Service, U.S. Department of Agriculture, 1250 Maryland Avenue, SW., Suite 400, Washington, DC 20024-2162. Comments may also be delivered through the U.S. mail to: Program Policy Staff, Office of Trade Programs, Foreign Agricultural Service, U.S. Department of Agriculture, 1400 Independence Ave., SW., STOP 1042, Washington, DC 20250-1042. All written comments received will be available for public inspection at the above address during business hours from 8 a.m. to 4 p.m., Monday through Friday. Persons with disabilities who require an alternative means for communication of information (Braille, large print, audiotape, etc.) should contact USDA's Target Center at (202) 720-2600 (voice and TDD).

FOR FURTHER INFORMATION CONTACT: Mark Slupek, Director, Program Policy Staff, Office of Trade Programs, Foreign Agricultural Service, U.S. Department of Agriculture, (202) 720-4327; fax (202) 720-9361.

SUPPLEMENTARY INFORMATION:

Background

The current regulation was last amended on June 2, 1998. FAS now has sufficient experience to propose further changes to improve the program's effectiveness. MAP funding helps to create, expand, and maintain commercial export markets for U.S. agricultural products. The program forms partnerships between non-profit U.S. agricultural trade associations, U.S. agricultural cooperatives, non-profit state-regional trade groups, small U.S. businesses, and the CCC to share the costs of international marketing and promotional activities. Any future amendment of the regulation could be expected to include revision of outdated language. For example, the current regulation does not reflect the organizational changes resulting from the recent reorganization of FAS.

Issues for Public Comment

I. With respect to proposed administrative changes, comments on these specific issues are being requested:

(a) Application process and activity plan. FAS is seeking comments on updating and merging the list of application requirements under § 1485.13(a) and the activity plan requirements under § 1485.15 to reflect the Unified Export Strategy system that is currently in place.

(b) Approval Criteria. FAS is seeking comments on the application approval criteria and allocation factors identified under § 1485.14(b) and (c).

II. With respect to amending and revising the scope and coverage of the regulation, FAS is soliciting comments regarding the feasibility of the changes proposed below and views regarding how they might be implemented.

(a) Expanding the scope of the program to include activities designed to address international market access issues. FAS is aware of the increasing numbers of trade barriers that disrupt the export of U.S. agricultural products in mature markets and is considering modifying the program to ensure that appropriate activities of this type would be reimbursable.

(b) Modifying the lists of eligible and ineligible contributions [currently found at § 1485.13(c)] to better identify in-kind and third party contributions.

(c) Modifying the lists of reimbursable and non-reimbursable activities [currently found at § 1485.16(b), (c), and (d)] to clarify existing activities and to include the use of electronic technologies not considered in the current regulation.

(d) Revising the portions of the regulation regarding contracting procedures [currently found at § 1485.23(c)]. The current regulation may not address the full range of contracting situations faced by participants. It may be necessary to identify the differences between employees, consultants, and contractors.

(e) Revising the portions of the regulation regarding the compliance review and appeals processes. The current regulation does not describe the compliance review and appeals processes in a single, cohesive section. A unified compliance section may improve the regulation.

(f) Revising the portions of the regulation regarding evaluation [currently found at § 1485.20(c)] to include requirements for country progress reports and success stories.

(g) Eliminating the Export Incentive Program/Market Access Program (EIP/MAP) subcomponent. FAS does not currently operate the EIP/MAP subcomponent and is considering removing reference to the subcomponent from the regulation.

III. With respect to risk management, FAS is soliciting comments regarding the mitigation of the risk inherent to reimbursing third party contracting expenses and brand participant activities with program funds. This could include improved accounting controls, insurance against fraud, bonding employees, or other risk management tools.

IV. In addition, FAS requests comments on any other aspect of the program set forth at 7 CFR part 1485 which commenters believe should be addressed in any future amendment of the regulation.

Dated: May 10, 2007.
W. Kirk Miller,
Acting Administrator, Foreign Agricultural Service, and Vice President, Commodity Credit Corporation.

[FR Doc. 07-2552 Filed 5-22-07; 8:45 am]

BILLING CODE 3410-10-M